Title 3—

The President

Proclamation 7748 of December 30, 2003

To Take Certain Actions Under the African Growth and

Opportunity Act, and for Other Purposes

By the President of the United States of America

A Proclamation

1. Section 506A(a)(1) of the Trade Act of 1974, as amended (the “1974 Act”) (19 U.S.C. 2466a(a)(1)), as added by section 111(a) of the African Growth and Opportunity Act (title I of Public Law 106-200) (AGOA), authorizes the President to designate a country listed in section 107 of the AGOA (19 U.S.C. 3706) as a “beneficiary sub-Saharan African country” if the President determines that the country meets the eligibility requirements set forth in section 104 of the AGOA (19 U.S.C. 3703), as well as the eligibility criteria set forth in section 502 of the 1974 Act (19 U.S.C. 2462).

2. Section 104 of the AGOA authorizes the President to designate a country listed in section 107 of the AGOA as an “eligible sub-Saharan African country” if the President determines that the country meets certain eligibility requirements.

3. Section 112(b)(3)(B) of the AGOA (19 U.S.C. 3721(b)(3)(B)) provides special rules for certain apparel articles imported from “lesser developed beneficiary sub-Saharan African countries.”

4. In Proclamation 7350 of October 2, 2000, President Clinton designated the State of Eritrea (Eritrea) and the Central African Republic as beneficiary sub-Saharan African countries pursuant to section 506A(a) of the 1974 Act and provided that they would be considered lesser developed beneficiary sub-Saharan African countries for purposes of section 112(b)(3)(B) of the AGOA.

5. Section 506A(a)(3) of the 1974 Act (19 U.S.C. 2466a(a)(3)) authorizes the President to terminate the designation of a country as a beneficiary sub-Saharan African country for purposes of section 506A if he determines that the country is not making continual progress in meeting the requirements described in section 506A(a)(1) of the 1974 Act, effective on January 1 of the year following the year in which such determination is made.

6. Pursuant to section 104 of the AGOA and section 506A(a)(1) of the 1974 Act, I have determined that the Republic of Angola (Angola) meets the eligibility requirements set forth or referenced therein, and I have decided to designate Angola as an eligible sub-Saharan African country and as a beneficiary sub-Saharan African country.

7. Angola satisfies the criterion for treatment as a “lesser developed beneficiary sub-Saharan African country” under section 112(b)(3)(B) of the AGOA.

8. Pursuant to section 506A(a)(3) of the 1974 Act, I have determined that Eritrea and the Central African Republic are not making continual progress in meeting the requirements described in section 506A(a)(1) of the 1974 Act. Accordingly, I have decided to terminate the designation of Eritrea and the Central African Republic as beneficiary sub-Saharan African countries for purposes of section 506A of the 1974 Act, effective on January 1, 2004.

9. Section 604 of the 1974 Act (19 U.S.C. 2483) authorizes the President to embody in the Harmonized Tariff Schedule of the United States (HTS) the substance of the relevant provisions of that Act, and of other acts affecting import treatment, and actions thereunder, including the removal, modification, continuance, or imposition of any rate of duty or other import restriction.

10. Section 203(e)(2)(A) of the Andean Trade Preference Act, as amended (ATPA) (19 U.S.C. 3202(e)(2)(A)), requires the President to publish in the Federal Register notice of any action he proposes to take under section 203(e)(1) of the ATPA (19 U.S.C. 3202(e)(1)) at least 30 days before taking the action. Section 212(e)(2)(A) of the Caribbean Basin Economic Recovery Act, as amended (CBERA) (19 U.S.C. 2702(e)(2)(A)), requires the President to publish in the Federal Register notice of any action he proposes to take under section 212(e)(1) of the CBERA (19 U.S.C. 2702(e)(1)) at least 30 days before taking the action. Proclamation 7616 of October 31, 2002, provided for the assignment of a publication function under these sections to the United States Trade Representative (USTR), but did not precisely specify the function assigned.

NOW, THEREFORE, I, GEORGE W. BUSH, President of the United States of America, acting under the authority vested in me by the Constitution and the laws of the United States of America, including sections 506A and 604 of the 1974 Act, section 104 of the AGOA, and section 301 of title 3, United States Code, do proclaim that:

(1) Angola is designated as an eligible sub-Saharan African country and as a beneficiary sub-Saharan African country.

(2) In order to reflect this designation in the HTS, general note 16(a) to the HTS is modified by inserting in alphabetical sequence in the list of beneficiary sub-Saharan African countries “Republic of Angola.”

(3) For purposes of section 112(b)(3)(B) of the AGOA, Angola is a lesser developed beneficiary sub-Saharan African country.

(4) The designation of Eritrea and the Central African Republic as beneficiary sub-Saharan African countries for purposes of section 506A of the 1974 Act is terminated, effective on January 1, 2004.

(5) In order to reflect in the HTS that beginning January 1, 2004, Eritrea and the Central African Republic shall no longer be designated as beneficiary sub-Saharan African countries, general note 16(a) to the HTS is modified by deleting “State of Eritrea” and “Central African Republic” from the list of beneficiary sub-Saharan African countries. Further, note 2(d) to subchapter XIX of chapter 98 of the HTS is modified by deleting “State of Eritrea” and “Central African Republic” from the list of lesser developed beneficiary sub-Saharan African countries.

(6) The modification to the HTS made by this proclamation shall be effective with respect to articles entered, or withdrawn from warehouse for consumption, on or after January 1, 2004.

(7) In order to assign to the USTR the publication function set forth in section 203(e)(2)(A) of the ATPA and section 212(e)(2)(A) of the CBERA, paragraph (3) of Proclamation 7616 of October 31, 2002, is revised by deleting the phrase “of this proclamation” and inserting in lieu thereof the phrase “of an action he proposes to take.”

(8) Any provisions of previous proclamations and Executive Orders that are inconsistent with this proclamation are superseded to the extent of such inconsistency.

IN WITNESS WHEREOF, I have hereunto set my hand this thirtieth day of December, in the year of our Lord two thousand three, and of the Independence of the United States of America the two hundred and twenty-eighth.

B

[FR Doc. 03-32327

Filed 12-31-03; 11:22 am]

Billing code 3195-01-P